DEPARTMENT OF HEALTH AND HUMAN SERVICES

Meeting of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be holding a public meeting. The meeting is open to the public.

DATES: The NBSB will hold a public meeting on March 26, 2010 from 8 a.m. to 5 p.m. ET. The agenda is subject to change as priorities dictate.

ADDRESSES: Washington, DC Metro Area. The venue details will be posted on the NBSB Web page at http://www.hhs.gov/aspr/omsph/nbsb/index.html as they become available.

FOR FURTHER INFORMATION CONTACT: E-mail: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

Background: The Board will discuss and consider recommendations from the National Biodefense Science Board's Medical Countermeasure Enterprise Working Group report regarding the issues and challenges facing the Public Health Emergency Medical Countermeasure Enterprise (PHEMCE).

Availability of Materials: The meeting agenda and other materials will be posted on the NBSB Web site at http://www.hhs.gov/aspr/omsph/nbsb/index.html prior to the meeting.

Procedures for Providing Public Input: Any member of the public providing oral comments at the meeting must sign-in at the registration desk and provide his/her name, address, and affiliation. All written comments must be received prior to March 25, 2010, and should be sent by e-mail to NBSB@HHS.GOV with “NBSB Public Comment” as the subject line. Individuals who plan to attend and need special assistance, such as sign language interpretation or other reasonable accommodations, should e-mail NBSB@HHS.GOV.

Dated: February 18, 2010.
Nicole Lurie,
Assistant Secretary for Preparedness and Response.

[FR Doc. 2010-3670 Filed 2-23-10; 8:45 am]

BILLING CODE 4150-37-P